DEPARTMENT OF HEALTH AND HUMAN SERVICES

Health Resources and Services Administration

Emergency Medical Service for Children; Cooperative Agreement for Emergency Medical Services for Children Central Data Management and Coordinating Center Demonstration Project

AGENCY: Health Resources and Services Administration, HHS.

ACTION: Notice of availability of funds.

SUMMARY: The Health Resources and Services Administration (HRSA) announces that up to $450,000 in fiscal year (FY) 2002 funds is available to fund one cooperative agreement for a demonstration project to establish, administer, and manage a Central Data Management and Coordinating Center (CDMCC) for the Emergency Medical Services for Children Network Development Demonstration Project (EMSC-NDDP). This cooperative agreement would demonstrate the feasibility and value of integrating data collection, data management, and data analysis guidelines, to serve as a central repository for generated data, and as central resource network databases for the EMSC-NDDP, and the public. The cooperative agreement (CFDA #93.127L) will be made under the program authority of the Public Health Service Act, Title XIX, Section 1910 (42 U.S.C. 300w-9), Emergency Medical Services for Children, and will be administered by the Maternal and Child Health Bureau (MCHB), HRSA. The Project will be approved for up to a 3-year period, with an average yearly award of $450,000. However, funding beyond FY 2002 is contingent upon the availability of funds.

DATES: Applicants are expected to notify MCHB of their intent by June 14, 2002. The deadline for receipt of applications is July 15, 2002. Applications will be considered “on time” if they are either received on or before the deadline date or postmarked on or before the deadline date. The projected award date is September 3, 2002.

ADDRESSES: To receive a complete application kit, applicants may telephone the HRSA Grants Application Center at 1-877-477-2123 (1-877-HRSA-123) or register on-line at: http://www.hrsa.gov/_order3.htm directly. The Central Data Management and Coordinating Center Program uses the standard Form PHS 5161-1 (rev. 7/00) for applications (approved under OMB No. 0920-0428). Applicants must use Catalog of Federal Domestic Assistance (CFDA) #93.127L when requesting application kits. The CFDA is a Government wide compendium of enumerated Federal programs, project services, and activities that provide assistance. All applications must be mailed or delivered to Grants Management Officer, MCHB: HRSA Grants Application Center, 901 Russell Avenue, Suite 450, Gaithersburg, MD 20879: telephone 1-877-477-2123: e-mail: hrsagac@hrsa.gov.

Necessary application forms and an expanded version of this Federal Register notice may be downloaded in either Microsoft Office 2000 or Adobe Acrobat format (.pdf) from the MCHB home page at http://www.mchb.hrsa.gov. Please contact Joni Johns, at 301/443-2088, or jjohns@hrsa.gov/, if you need technical assistance in accessing the MCHB home page via the Internet.

This notice will appear in the Federal Register and/or HRSA home page at http://www.hrsa.gov/. Federal Register notices are found on the World Wide Web by following instructions at: http://www.access.gpo.gov/su_docs/aces/aces140.html.

Letter of Intent: Applicants are expected to notify MCHB of their intent by June 14, 2002. Notification of intent to apply can be made in one of three ways: telephone, Kishena Wadhwani, Ph.D., 301-443-2927; e-mail, kwadhwan@hrsa.gov; mail, Research Branch, MCHB Division of Research, Training and Education; Parklawn Building, Room 18A-55; 5600 Fishers Lane; Rockville, MD 20857, or Cindy Doyle, R.N., telephone 301-443-3888; e-mail, cdoyle@hrsa.gov; mail EMSC Program, MCHB Division of Injury and EMS; Parklawn Building, Room 18A-38; 5600 Fishers Lane; Rockville, MD 20857.

FOR FURTHER INFORMATION CONTACT: Kishena Wadhwani, Ph.D., 301-443-2927, e-mail: kwadhwan@hrsa.gov/ or Cindy Doyle, R.N. 301-443-3888, e-mail: cdoyle@hrsa.gov (for questions specific to project objectives and activities of the program; or the required Letter of Intent, which is further described in the application kit); Jamie King, 301-443-1123, e-mail jking@hrsa.gov for grants policy, budgetary, and business questions).

SUPPLEMENTARY INFORMATION: Improving the care of ill and injured pediatric patients has been a major goal of the EMSC program since its inception in 1984. This program is administered by MCHB in collaboration with the National Highway Traffic Safety Administration (NHTSA), U.S. Department of Transportation. Almost every State has received EMSC funding for demonstration projects to expand and improve pediatric emergency care and many new methods have been implemented, including system development, education of emergency providers, integration of pediatric components into adult emergency medical services (EMS) systems, and data collection and analysis to delineate existing and emergent problems and develop cause-and-effect hypotheses.

Despite the many advances in creating and improving EMS systems and incorporating pediatric components into them, relatively little empirical data has been collected about how EMS and EMSC systems operate, about the efficacy of the clinical procedures being employed at the hospital level to treat and manage children who have experienced an emergency event, or about the efficacy of the transport systems and clinical procedures used to treat and manage children prior to their arrival at the hospital. Information on the cost effectiveness of the various EMS and EMSC system configurations and of the various ways being used to handle clinical pediatric emergencies is also lacking.

The dearth of nationwide, science-based knowledge about pediatric emergencies and how to best manage them has not gone unnoticed. The issue has been raised by professionals in the field since 1991, who have found that it constitutes a major barrier to the reduction of the annual toll in mortality and morbidity. More recently, in 2001, a joint report from the National Association of EMS Physicians and NHTSA delineates what areas—unspecified as to adult or children—need to be addressed. This report emphasizes that because the incidence rates for all emergency events are relatively small, more so for children, the pooling of data in sites and treatment experiences is highly desirable.

The MCHB/HRSA has established EMSC-NDDP Cooperative Agreements with four (4) academic medical centers throughout the United States, to act as regional centers or “nodes.” Under these cooperative agreements, Regional Nodes are working together to design and implement multi-site studies of pediatric emergencies and best practices for their management. The Steering Committee, which is composed of the principal investigators of the four cooperative agreements, representatives from each hospital emergency department affiliated with the principal investigators within Regional Nodes, MCHB/HRSA program staff, and the Principal Investigator for the Central Data Management and Analysis Center (under this cooperative agreement), will provide leadership and direction for the overall governance of the EMSC-NDDP.

This announcement provides for the establishment of a Central Data Management and Coordinating Center (CDMCC) to provide statistical, clinical coordination, technical, regulatory, and administrative support for the EMSC-NDDP. The period of performance for this cooperative agreement is three years.

Authorization: Title XIX, Section 1910, Public Health Service Act (42 U.S.C. 300w-9).

Purpose

The purpose of this cooperative agreement is to support the establishment, administration, and management of a Central Data Management and Coordinating Center (CDMCC) to provide EMSC-NDDP with data collection, data management, data analysis guidelines, in order to demonstrate how it can serve as a central repository for generated data and serve as a central resource network of data bases for the EMSC-NDDP and the public. The purpose of the EMSC-NDDP is to demonstrate the feasibility and value of an infrastructure or network designed to be the platform from which to conduct investigations on the efficacy of treatments, transport, and care responses, including those preceding the arrival of children to hospital emergency departments.

Eligibility

Eligibility is open to State governments and accredited schools of medicine. The term “schools of medicine” for the purpose of this announcement is defined as having the same meaning as set forth in section 799B(1)(A) of the PHS Act (42 U.S.C. 295p(1)(A)). “Accredited” in this context has the same meaning as set forth in section 799B(1)(E) of the PHS Act (42 U.S.C. 295p(1)(E)).

Funding Level/Project Period

The administrative and funding instrument to be used for the national CDMCC will be a cooperative agreement, in which substantial MCHB scientific and/or programmatic involvement with the awardees is anticipated during the performance of the project. Under the terms of this cooperative agreement, in addition to the required monitoring and technical assistance, Federal responsibilities will include:

(1) Provision of services of experienced federal personnel as participants in the planning and development of all phases of this activity.

(2) Participation, as appropriate, in meetings conducted during the period of the cooperative agreement.

(3) Ongoing review and concurrence with activities and procedures to be established and implemented for accomplishing the scope of work.

(4) Participation in the preparation of project information prior to dissemination.

(5) Participation in the presentation of information on project activities.

(6) Assistance with the establishment of contacts with Federal and State agencies, MCHB grant projects, and other contacts that may be relevant to the project's mission; and referrals to these agencies.

Approximately $450,000 in FY 2002 funds is available to support this cooperative agreement. A single award will be made in FY 2002, with a project period of up to three years. The initial budget period is expected to be 12 months, with subsequent budget periods being 12 months. Continuation of any project from one budget period to the next is subject to satisfactory performance, availability of funds, and program priorities.

Review Criteria

Applications that are complete and responsive to the guidance will be evaluated for scientific and technical merit by an appropriate peer review group specifically convened for this solicitation and in accordance with HRSA grants management policies and procedures. As part of the initial merit review, all applications will receive a written critique. All applications recommended for approval will be discussed fully by the ad hoc peer review group and assigned a priority score for funding.

Applications will be reviewed using a set of criteria covering the following areas:

1. Soundness and practicality of the technical approach for executing the requirements as specified in the Terms and Conditions of the Award

2. Principal Investigator's documented history of leadership in the conduct of multi-site clinical and observational studies and a publication record.

3. Documented availability, training, qualifications, expertise, relevant experience, education and competence of the clinical, analytical, technical, and administrative staff and any other proposed personnel (including proposed subcontractors and consultants), to perform the requirements of the work activities

4. Adequacy of the administrative and organizational framework

5. Budget requests commensurate with the complexities involved in what is being proposed and carefully justified;

6. Positive evaluation of pre-award site visit (if recommended by the review panel).

Final criteria used to review and rank applications for this competition are included in the application kit. Applicants should pay strict attention to addressing these criteria, as they are the basis upon which their applications will be judged.

Paperwork Reduction Act

If the cooperative agreement described in this announcement involves data collection activities that fall under the purview of the Paperwork Reduction Act of 1995, OMB clearance will be sought prior to collection of data.

Dated: April 19, 2002.
Elizabeth M. Duke,
Administrator.

[FR Doc. 02-10278 Filed 4-25-02; 8:45 am]

BILLING CODE 4165-15-P